FARM CREDIT ADMINISTRATION

Sunshine Act Meeting; Farm Credit Administration Board

AGENCY: Farm Credit Administration.

ACTION: Notice, regular meeting.

SUMMARY: Notice is hereby given, pursuant to the Government in the Sunshine Act, of the forthcoming regular meeting of the Farm Credit Administration Board.

Date and Time: The regular meeting of the Board will be held December 10, 2020, from 9:00 a.m. until such time as the Board may conclude its business. Note: Because of the COVID-19 pandemic, we will conduct the board meeting virtually. If you would like to observe the open portion of the virtual meeting, see instructions below for board meeting visitors.

Attendance: To observe the open portion of the virtual meeting, go to FCA.gov, select “Newsroom,” then “Events.” There you will find a description of the meeting and a link to “Instructions for board meeting visitors.” See SUPPLEMENTARY INFORMATION for further information about attendance requests.

Contact: Dale Aultman, Secretary to the Farm Credit Administration Board (703) 883-4009. TTY is (703) 883-4056.

SUPPLEMENTARY INFORMATION: Parts of this meeting of the Board will be open to the public, and parts will be closed. If you wish to observe the open portion, follow the instructions above in the “Attendance” section at least 24 hours before the meeting. If you need assistance for accessibility reasons or if you have any questions, contact Dale Aultman, Secretary to the Farm Credit Administration Board, at (703) 883-4009. The matters to be considered at the meeting are as follows:

Open Session

A. Approval of Minutes

• November 19, 2020

B. Reports

• Quarterly Report on Economic Conditions and FCS Conditions and Performance

• Semi-Annual Report on Office of Examination Operations

New Business

• Extension of No Action Until Investment Eligibility Rule's Effective Date

Closed Session

• Office of Examination Quarterly Report ¹

¹ Closed session is exempt pursuant to 5 U.S.C. Section 552b(c)(8) and (9).

Dated: November 30, 2020.
Dale Aultman,
Secretary, Farm Credit Administration Board.

[FR Doc. 2020-26658 Filed 11-30-20; 4:15 pm]

BILLING CODE 6705-01-P